DEPARTMENT OF COMMERCE

National Oceanic and Atmospheric Administration

[I.D. 111202D]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings December 2-9, 2002, in Anchorage, Alaska.

DATES: The meetings will be held on December 2, 2002 through December 9, 2002. See SUPPLEMENTARY INFORMATION for specific dates and times.

ADDRESSES: The Anchorage Hilton Hotel, 500 W 3rd Avenue, Anchorage, Alaska 99501.

Council address: North Pacific Fishery Management Council, 605 W. 4th Ave., Suite 306, Anchorage, AK 99501-2252.

FOR FURTHER INFORMATION CONTACT: Council staff, Phone: 907-271-2809.

SUPPLEMENTARY INFORMATION: The Council's Advisory Panel (AP) will begin at 8 a.m., Monday, December 2, and continue through Friday, December 6, 2002. The Scientific and Statistical Committee (SSC) will begin at 8 a.m. on Monday, December 2, and continue through Wednesday, December 4, 2002. Other Committees to be held during the week: Joint Protocol/Council/Board of Fish, 6 p.m. on Tuesday, December 3 in the King Salmon Room. Ecosystem Panel (Council, SSC, AP) 1 p.m.-5 p.m. on Tuesday, December 3 in the Aspen/Spruce Room.

The Council will begin its plenary session at 8 a.m. on Wednesday, December 4, continuing through Tuesday December 9. All meetings are open to the public except executive sessions.

Council Plenary Session: The agenda for the Council's plenary session will include the following issues. The Council may take appropriate action on any of the issues identified.

1. Report:

(a) Executive Director's Report

(b) NMFS Management Report

(c) Alaska Department of Fish &Game (ADF&G) Management Report

(d) Coast Guard Report

(e) United States Fish & Wildlife Service Report

(f) National Academy of Science Steller Sea Lion report

(g) Vessel Monitoring System (VMS) National Committee report (if available)

2. Crab Rationalization: Receive Committee reports and determine preferred alternatives for completed trailing amendments. Discuss Environmental Impact Statement (EIS) progress and alternatives. Provide direction/alternatives on Pribilof blue king crab rebuilding plan.

3. Gulf of Alaska (G0A) Rationalization; Receive report from GOA Work Group, discuss alternatives for formal analysis, and provide direction to staff and work group.

4. Essential Fish Habitat (EFH): Receive Committee report and clarify mitigation alternatives for analysis.

5. American Fisheries Act Issues: Final action on Pacific cod sideboard issues (T). Review initial co-op reports and agreements (full reports in February).

6. Improved Retention/Improved Utilization (IR/IU): Receive Committee report and clarify mitigation alternatives for analysis.

7. Groundfish Issues: Final report from F40 review. Review NMFS discussion paper on Bering Sea and Aleutian Islands (BSAI) rockfish management. Review alternative for total allowable catch (TAC)-setting process amendment package. Review and approve BSAI and GOA Stock Assessment and Fishery Evaluation(SAFE) report and recommend final catch specifications and bycatch apportionments for 2003. Review discussion paper on Amendment 64 (BSI fixed gear Pacific cod allocations) and finalize alternatives for analysis.

8. Staff Tasking: Review tasking and committees and provide direction to staff.

9. Other Business: Approve AP and SSC appointments for 2003

Scientific and Statistical Committee: The SSC agenda will include the following issues:

(a) C-3 EFH

(b) Review Halibut log book data

(c) C-1 Rationalization (T)

(d) D-1(a) F40 Final Report

(e) D-1(b,c) BSAI Rockfish and TAC setting

(f) D-1(d,e) BSAI/GOA SAFE

(g) American Fisheries Act

Advisory Panel: The Advisory Panel will address the same agenda issues as the Council, with the exception of the Reports under Item #1 of the Council agenda.

Although non-emergency issues not contained in this agenda may come before the discussion, in accordance with the Magnuson-Stevens Fishery Conservation and Management Act (Magnuson-Stevens Act), those issues may not be the subject of formal Council action during these meetings. Action will be restricted to those issues specifically listed in this notice and any issue arising after publication of this notice that require emergency action under section 305(c) of the Magnuson-Stevens Act, provided the public has been notified of the Council's intent to take final action to address this emergency.

Special Accommodations

These meetings are physically accessible to people with disabilities. Requests for sign language interpretation or other auxiliary aids should be directed to Gail Bendixen at 907-271-2809 at least 7 working days prior to the meeting date.

Dated: November 12, 2002.
Richard W. Surdi,
Acting Director, Office of Sustainable Fisheries, National Marine Fisheries Service.

[FR Doc. 02-29216 Filed 11-15-02; 8:45 am]

BILLING CODE 3510-22-S